DEPARTMENT OF HOMELAND SECURITY

Federal Emergency Management Agency

[Docket ID FEMA-2020-0002; Internal Agency Docket No. FEMA-B-2019]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 21, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2019, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Cook County, Illinois and Incorporated Areas
Project: 13-05-4215S Preliminary Dates: June 26, 2019 and November 22, 2019
City of Chicago | Department of Buildings Stormwater Management, 121 North LaSalle Street, Room 906, Chicago, IL 60602.
City of Evanston | Engineer's Office, 2100 Ridge Avenue, Evanston, IL 60201.
Unincorporated Areas of Cook County | Cook County Building and Zoning Department, 69 West Washington, 21st Floor, Chicago, IL 60602.
Village of Glencoe | Engineering Department, 675 Village Court, Glencoe, IL 60022.
Village of Kenilworth | Public Works Department, 347 Ivy Court, Kenilworth, IL 60043.
Village of Wilmette | Village Hall, Community Development Department, 1200 Wilmette Avenue, Wilmette, IL 60091.
Village of Winnetka | Public Works Department, 1390 Willow Road, Winnetka, IL 60093.
Porter County, Indiana and Incorporated Areas
Project: 13-05-4233S Preliminary Date: June 28, 2019
City of Portage | City Hall, 6070 Central Avenue, Portage, IN 46368.
Town of Beverly Shores | Administration Building, 500 South Broadway, Beverly Shores, IN 46301.
Town of Burns Harbor | Town Hall, 1240 North Boo Road, Burns Harbor, IN 46304.
Town of Dune Acres | Administrative Office, Building Department, 1 East Road, Dune Acres, IN 46304.
Town of Ogden Dunes | Town Hall, 115 Hillcrest Road, Ogden Dunes, IN 46368.
Town of Porter | Town Hall, Building & Development Department, 303 Franklin Street, Porter, IN 46304.
Unincorporated Areas of Porter County | Porter County, 155 Indiana Avenue, Suite 311, Valparaiso, IN 46383.
Emmet County, Iowa and Incorporated Areas
Project: 16-07-2224S Preliminary Date: July 25, 2019
City of Armstrong | City Hall, 519 6th Street, Armstrong, IA 50514.
City of Estherville | City Hall, 2 North 7th Street, Estherville, IA 51334.
City of Wallingford | City Hall, 101 St. James Avenue, Wallingford, IA 51365.
Unincorporated Areas of Emmet County | Emmet County Courthouse, 609 1st Avenue North, Estherville, IA 51334.
Ottawa County, Michigan and Incorporated Areas
Project: 13-05-4246S Preliminary Date: September 27, 2019
Charter Township of Grand Haven | Charter Township Administrative Offices, 13300 168th Avenue, Grand Haven, MI 49417.
Charter Township of Holland | Charter Township Office, 353 North 120th Avenue, Holland, MI 49424.
City of Ferrysburg | City Hall, 17290 Roosevelt Road, Ferrysburg, MI 49409.
City of Grand Haven | City Hall, 519 Washington Avenue, Grand Haven, MI 49417.
City of Holland | City Hall, 270 South River Avenue, Holland, MI 49423.
Township of Olive | Olive Township Office, 6480 136th Avenue, Holland, MI 49424.
Township of Park | Park Township Office, 52 152nd Avenue, Holland, MI 49424.
Township of Port Sheldon | Port Sheldon Township Hall, 16201 Port Sheldon Street, West Olive, MI 49460.
Township of Spring Lake | Township Hall, 106 South Buchanan Street, Spring Lake, MI 49456.
Village of Spring Lake | Village Hall, 102 West Savidge Street, Spring Lake, MI 49456.
Cottonwood County, Minnesota and Incorporated Areas
Project: 17-05-1799S Preliminary Date: June 25, 2019
City of Mountain Lake | City Hall, 930 3rd Avenue, Mountain Lake, MN 56159.
City of Windom | City Hall, 444 9th Street, Windom, MN 56101.
Unincorporated Areas of Cottonwood County | Environmental Office, 339 9th Street, Windom, MN 56101.
Washington County, Wisconsin and Incorporated Areas
Project: 18-05-0010S Preliminary Date: October 9, 2019
City of West Bend | City Hall, 1115 South Main Street, West Bend, WI 53095.
Unincorporated Areas of Washington County | Washington County Government Center, 432 East Washington Street, Suite 3029, West Bend, WI 53095.
Village of Germantown | Village Hall, N112 W17001 Mequon Road, Germantown, WI 53022.
Village of Jackson | Village Hall, N168 W20733 Main Street, Jackson, WI 53037.
Village of Richfield | Richfield Village Hall, 4128 Hubertus Road, Hubertus, WI 53033.

[FR Doc. 2020-08457 Filed 4-21-20; 8:45 am]

BILLING CODE 9110-12-P